INTERNATIONAL TRADE COMMISSION

[Investigation No. 332-415]

U.S. Trade and Investment With Sub-Saharan Africa; Import Investigations

AGENCY: United States International Trade Commission.

ACTION: Institution of investigation and notice of opportunity to submit comments.

EFFECTIVE DATE: May 15, 2000.

SUMMARY: Following receipt on March 12, 2000, of a letter from the United States Trade Representative (USTR), the Commission instituted investigation No. 332-415, U.S. Trade and Investment with Sub-Saharan Africa.

FOR FURTHER INFORMATION CONTACT: Ms. Constance Hamilton, Office of Economics (202-205-3263), or Mr. William Gearhart, Office of the General Counsel (202-205-3091) for information on legal aspects of the investigation. The media should contact Ms. Margaret O'Laughlin, Office of External Relations (202-1819). Hearing impaired individuals are advised that information on this matter can be obtained by contacting the TDD terminal on 202-205-1810.

Background

Pursuant to authority under section 332(g) of the Tariff Act of 1930, the USTR requested that the Commission prepare a series of annual reports for five years containing the following information:

1. For the last five years (and the latest quarter available), data for U.S. merchandise trade and U.S. services trade with sub-Saharan Africa, including statistics by country, by major sectors, and by the top 25 commodities, as well as statistics on imports from sub-Saharan Africa under the GSP program by country and major product categories/commodities.

2. Country-by-country profiles of the economies of each sub-Saharan African country, including information on major trading partners, by country.

3. A summary of the trade, services, and investment climates in each of the countries in sub-Saharan Africa, including a description of the basic tariff structure (e.g., the average tariff rate and the average agricultural tariff rate). The summaries should also include information on significant impediments to trade, including any import bans.

4. Updates on regional integration in sub-Saharan Africa and statistics on U.S. trade with major regional groupings (COMESA, EAC, ECOWAS, IGAD, SACU, SADC, and WAEMU). Where applicable, information should be provided on the regional group's tariff structure.

5. A description of the U.S. tariff structure for imports from Africa.

6. A summary of U.S. and total foreign direct investment and portfolio investment in sub-Saharan Africa.

7. Information on sub-Saharan African privatization efforts based on publicly available information.

8. A summary of multilateral and U.S. bilateral assistance to the countries of sub-Saharan Africa.

The USTR requested that the Commission provide its first report by December 2000, and annually for a period of 4 years thereafter. The 48 countries of sub-Saharan Africa covered in this investigation include: Angola, Benin, Botswana, Burkina Faso, Burundi, Cameroon, Cape Verde, Central African Republic, Chad, Comoros, Democratic Republic of the Congo, Côte d'Ivoire, Djibouti, Equatorial Guinea, Eritrea, Ethiopia, Gabon, The Gambia, Ghana, Guinea, Guinea-Bissau, Kenya, Lesotho, Liberia, Madagascar, Malawi, Mali, Mauritania, Mauritius, Mozambique, Namibia, Niger, Nigeria, Republic of the Congo, Rwanda, S̃ão Tomé and Principe, Senegal, Seychelles, Sierra Leone, Somalia, South Africa, Sudan, Swaziland, Tanzania, Togo, Uganda, Zambia, and Zimbabwe.

Written Submissions

The Commission does not plan to hold a public hearing in connection with this investigation. However, interested persons are invited to submit written statements concerning matters to be addressed in the report. Commercial or financial information that a person desires the Commission to treat as confidential must be submitted on separate sheets of paper, each clearly marked “Confidential Business Information” at the top. The Commission's Rules do not authorize filing of submissions with the Secretary by facsimile or electronic means. All written submissions must conform with the provisions of section 201.8 of the Commission's Rules of Practice and Procedure (19 CFR 201.8). All submissions requesting confidential treatment must conform with the requirements of section 201.6 of the Commission's Rules (19 CFR 201.6). All written statements, except for confidential business information will be made available for inspection by interested persons in the Office of the Secretary to the Commission. To be assured of consideration, written statements relating to the Commission's report should be submitted at the earliest possible date and should be received not later than August 31, 2000. All submissions should be addressed to the Secretary, United States International Trade Commission, 500 E Street SW, Washington, DC 20436.

Persons with mobility impairments who will need special assistance in gaining access to the Commission should contact the Office of the Secretary at 202-205-2000.

Issued: May 16, 2000.
By order of the Commission.
Donna R. Koehnke,
Secretary.

[FR Doc. 00-13075 Filed 5- 23-00; 8:45 am]

BILLING CODE 7020-02-P